DEPARTMENT OF TRANSPORTATION

Federal Railroad Administration

[Docket No. FRA-2012-0066]

State Rail Plan Guidance

AGENCY: Federal Railroad Administration (FRA), Department of Transportation (DOT).

ACTION: Request for Public Comment on Proposed State Rail Plan Guidance.

SUMMARY: FRA is publishing this notice to request comments on FRA's technical guidance for the development, submission, and acceptance of State rail plans. State rail plans are documents that are required under Section 303 of the Passenger Rail Investment and Improvement Act of 2008 (Pub. L. 110-432). Section 303 of PRIIA provides for enhanced State involvement in rail policy, planning, and development efforts, including requiring States to develop FRA-accepted State rail plans in order to be eligible for the capital grants authorized in the Act and available under the High-Speed Intercity Passenger Rail program. This guidance provides an explanation of the process to be followed in developing State rail plans, FRA's process for reviewing and accepting State rail plans, a standardized format, and a list of the minimum content requirements of State rail plans established in Section 303. The State Rail Plan Guidance document is available on FRA's Web site at http://www.fra.dot.gov/rpd/Passenger/fp_Proposed_State_Rail_Plan_Guidance.shtml.

DATES: Public comments on the proposed guidance are due on or before October 15, 2012.

ADDRESSES: To ensure that comments are not entered into the docket more than once, please submit comments, identified by docket number FRA-2012-0066, by only one of the following methods:

(1) Web site: http://www.regulations.gov. Follow the instructions for submitting comments on the U.S. Government electronic docket site;

(2) Fax: (202) 493-2251;

(3) Mail: U.S. Department of Transportation, 1200 New Jersey Avenue SE., Docket Operations, M-30, Room W12-140, Washington, DC 20590-0001; or

(4) Hand Delivery: Room W12-140 on the first floor of the West Building, 1200 New Jersey Avenue SE., Washington, DC 20590, between 9 a.m. and 5 p.m., Monday through Friday, except Federal holidays.

Instructions for submitting public comments: All submissions must make reference to the “Federal Railroad Administration” and include docket number FRA-2012-0066. Due to security procedures in effect since October 2001, mail received through the U.S. Postal Service may be subject to delays. Parties making submissions responsive to this notice should consider using an express mail firm to ensure the prompt filing of any submissions not filed electronically or by hand. If comments are submitted by mail or by hand, please submit two copies of the comments. For confirmation that the FRA has received the comments, a self-addressed stamped postcard must be included. Note that all submissions received, including any personal information therein, will be posted without change or alteration to http://www.regulations.gov. For more information, you may review DOT's complete Privacy Act Statement in the Federal Register published on April 11, 2000 (65 FR 19477), or visit http://www.regulations.gov.

FOR FURTHER INFORMATION CONTACT: For questions about this notice, please contact Kyle Gradinger, Transportation Industry Analyst, Office of Railroad Policy and Development, Federal Railroad Administration, 1200 New Jersey Ave. SE., W36-430, Washington, DC 20590; telephone: (202) 493-6191.

Issued in Washington, DC on August 7, 2012.
Corey Hill,
Director, Project Development and Delivery.

[FR Doc. 2012-19910 Filed 8-13-12; 8:45 am]

BILLING CODE 4910-06-P